DEPARTMENT OF AGRICULTURE

Forest Service

Revision of the Land Management Plan for Inyo National Forest

AGENCY: Forest Service, USDA.

ACTION: Notice of approval of the revised Land Management Plan for the Inyo National Forest.

SUMMARY: Tammy Randall-Parker, the Forest Supervisor for Inyo National Forest, Pacific Southwest Region, has signed the Record of Decision (ROD) for the revised Inyo National Forest Land Management Plan. The final ROD documents the rationale for approving the revised Land Management Plan and is consistent with the Reviewing Officer's response to objections and instructions.

DATES: The revised Land Managmenent Plan for Inyo National Forest will become effective 30 days after the publication of this notice of approval in the Federal Register (36 CFR 219.17(a)(1)). To view the final ROD, final environmental impact statement (FEIS), the revised Land Management Plan, and other related documents, please visit the Inyo National Forest website at: www.fs.usda.gov/main/inyo/landmanagement/planning.

A legal notice of approval is also being published in Inyo National Forest's newspaper of record, the Inyo Register. A copy of this legal notice will be posted on the website described above.

FOR FURTHER INFORMATION CONTACT: Further information about the revised Land Management Plan for Inyo National Forest can be obtained by contacting Erin Noesser, Forest National Environmental Policy Act (NEPA) coordinator, at (760) 873-2449. Individuals who use telecommunication devices for the deaf (TDD) may call the Federal Information Relay Service (FIRS) at 1-800-877-8339 between 8:00 a.m. and 8:00 p.m., Eastern time, Monday through Friday. Written requests for information may be sent to erin.noesser@usda.gov or Inyo National Forest, Attn. INF Plan Revision, 351 Pacu Ln., Suite 200, Bishop, CA 93514.

SUPPLEMENTARY INFORMATION: The Inyo National Forest covers approximately two million acres in eastern California. The revised Land Management Plan, which was developed pursuant to the 2012 Forest Planning Rule (36 CFR 219), will replace the Land Management Plan approved in 1988 (including amendments). This new, revised Land Management Plan establishes a strong commitment to forest visitors and local communities by providing a variety of social and economic benefits associated with an all-lands approach to conserving high-priority forest ecosystems. The plan components were developed using best available scientific information and the consideration of fiscal capability.

A draft ROD, revised Land Management Plan, and FEIS were released in August 2018, and were subject to a pre-decisional objection period. Twenty-two objections were received, and an in-person objection resolution meeting was held in February 2019, with the Reviewing Officer and objectors in attendance. The Reviewing Officer's response to the objection has been signed by the Deputy Regional Forester for the Pacific Southwest Region. The instructions from the Reviewing Officer were incorporated into the final ROD. The final ROD to approve the revised Land Management Plan for Inyo National Forest has now been signed by the Responsible Official, and is available at the website described above.

Responsible Official

The responsible official for the revision of the Land Management Plan for the Inyo National Forest is Tammy Randall-Parker, Forest Supervisor, Inyo National Forest, 351 Pacu Ln., Suite 200, Bishop, CA 93514.

Dated: October 18, 2019.
Allen Rowley,
Associate Deputy Chief, National Forest System.

[FR Doc. 2019-23242 Filed 10-24-19; 8:45 am]

BILLING CODE 3411-15-P